DEPARTMENT OF ENERGY

Federal Energy Regulatory Commission

Combined Notice of Filings #1

September 16, 2005.

Take notice that the Commission received the following electric rate filings:

Docket Numbers: ER05-1097-002.

Applicants: BJ Energy LLC.

Description: BJ Energy, LLC submits its compliance filing to Commission's Letter Order issued 8/11/2005.

Filed Date: 09/08/2005.

Accession Number: 20050912-0034.

Comment Date: 5 p.m. Eastern Time on Thursday, September 29, 2005.

Docket Numbers: ER05-1445-000.

Applicants: PPL Electric Utilities Corporation.

Description: PPL Electric Utilities Corp submits an addition to its Electric Rate Schedule FERC No. 117 designated in accordance with Order 614.

Filed Date: 09/07/2005.

Accession Number: 20050909-0037.

Comment Date: 5 p.m. Eastern Time on Wednesday, September 28, 2005.

Docket Numbers: ER05-1446-000.

Applicants: Southern California Edison Company.

Description: Southern California Edison Co submits revised sheets for the Interconnection Facilities Agreement with PPM Energy, LLC, Service Agreement No. 36 under SCE's Transmission Owner Tariff.

Filed Date: 09/07/2005.

Accession Number: 20050909-0028.

Comment Date: 5 p.m. Eastern Time on Wednesday, September 28, 2005.

Docket Numbers: ER05-1450-000.

Applicants: ISO New England Inc. and New England Power Pool.

Description: ISO New England Inc and New England Power Pool (NEPOOL) Participants Committee jointly submit attachments revising Appendix E to establish a Demand Response Reserve Pilot Program.

Filed Date: 09/07/2005.

Accession Number: 20050912-0025.

Comment Date: 5 p.m. Eastern Time on Wednesday, September 28, 2005.

Docket Numbers: ER05-1451-000.

Applicants: Southwestern Public Service Company.

Description: Southwestern Public Service Co submits a Notice of Cancellation of Rate Schedule FERC No. 108, Agreement for Wholesale Full Requirements Service with Lyntegar Electric Cooperative, effective 12/31/05.

Filed Date: 09/07/2005.

Accession Number: 20050912-0024.

Comment Date: 5 p.m. Eastern Time on Wednesday, September 28, 2005.

Docket Numbers: ER05-1452-000.

Applicants: Duke Energy Corporation.

Description: Duke Energy Corp on behalf of Duke Electric Transmission filed an unexecuted affected systems operating agreement with North Carolina Electric Membership Corporation.

Filed Date: 09/08/2005.

Accession Number: 20050912-0019.

Comment Date: 5 p.m. Eastern Time on Thursday, September 29, 2005.

Docket Numbers: ER05-1453-000; ER05-1454-000; ER05-1455-000; ER05-1456-000; ER05-1457-000; ER05-1458-000; ER05-1459-000.

Applicants: DeSoto County Generating Company, LLC; Effingham County Power, LLC, MPC Generating, LLC; Progress Ventures, Inc.; Rowan County Power, LLC; Walton County Power, LLC; Washington County Power, LLC.

Description: Progress Energy, Inc on behalf of DeSoto County Generating Co, LLC et al submits revisions to the market-based rate tariff.

Filed Date: 09/07/2005.

Accession Number: 20050912-0026.

Comment Date: 5 p.m. Eastern Time on Wednesday, September 28, 2005.

Docket Numbers: ER05-508-000.

Applicants: New England Power Pool.

Description: ISO New England Inc, on behalf of itself and other settling parties submits Partial Settlement Agreement and related materials pursuant to section 385.602 of FERC's Rules and Procedures.

Filed Date: 09/08/2005.

Accession Number: 20050909-0081.

Comment Date: 5 p.m. Eastern Time on Thursday, September 29, 2005.

Docket Numbers: ER99-3911-003.

Applicants: Northbrook New York, LLC.

Description: Northbrook New York, LLC notifies FERC of a change in status regarding its upstream ownership pursuant to Order 652.

Filed Date: 09/07/2005.

Accession Number: 20050912-0022.

Comment Date: 5 p.m. Eastern Time on Wednesday, September 28, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov. or call (866) 208-3676 (toll free). For TTY, call (202) 502-8659.

Magalie R. Salas,
Secretary.

[FR Doc. E5-5201 Filed 9-27-05; 8:45 am]

BILLING CODE 6717-01-P